DEPARTMENT OF EDUCATION

[Docket ID ED-2017-FSA-0034]

Privacy Act of 1974; Computer Matching Program

AGENCY: Department of Education.

ACTION: Notice of a Modified Matching Program.

SUMMARY: This document provides notice of the continuation of a computer matching program between the Department of Education and the Department of Homeland Security, U.S. Citizenship and Immigration Services.

DATES: We must receive your comments on or before April 19, 2017.

The re-established matching program will be effective on the latest of the following three dates: (A) April 18, 2017; (B) 30 days from the date on which the Department of Education (ED) publishes a Computer Matching Notice in the Federal Register, as required by 5 U.S.C. 552a(e)(12) and Office of Management and Budget (OMB) Circular No. A-108, assuming that ED receives no public comments or receives public comments but makes no changes to the Computer Matching Notice as a result of the public comments, or 30 days from the date on which ED publishes a Revised Computer Matching Notice in the Federal Register, assuming that ED receives public comments and revises the Computer Matching Notice as a result of public comments; or (C) 60 days from the date on which ED transmits the report of the matching program, as required by 5 U.S.C. 552a(r) and OMB Circular No. A-108, to OMB, the U.S. House Committee on Oversight and Government Reform, and the U.S. Senate Committee on Homeland Security and Governmental Affairs, unless OMB waives any days of the 60-day review period for compelling reasons, in which case 60 days minus the number of days waived by OMB from the date of ED's transmittal of the report of the matching program.

The matching program will continue for 18 months after the effective date and may be extended for an additional 12 months thereafter, if the conditions specified in 5 U.S.C. 552a(o)(2)(D) have been met.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under the “help” tab.

• Postal Mail, Commercial Delivery, or Hand Delivery: If you mail or deliver your comments about these proposed regulations, address them to Marya Dennis, Management and Program Analyst, U.S. Department of Education, Federal Student Aid, Union Center Plaza, 830 First Street NE., Washington, DC 20002-5345.

Privacy Note: The Department's policy is to make all comments received from members of the public available for public viewing in their entirety on the Federal eRulemaking Portal at www.regulations.gov. Therefore, commenters should be careful to include in their comments only information that they wish to make publicly available.

FOR FURTHER INFORMATION CONTACT: Ms. Marya Dennis, Management and Program Analyst, U.S. Department of Education, Federal Student Aid, Union Center Plaza, 830 First Street NE., Washington, DC 20002-5345. Telephone: (202) 377-3385.

If you use a telecommunications device for the deaf (TDD) or a text telephone (TTY), call the Federal Relay Service (FRS), toll free, at 1-800-877-8339.

SUPPLEMENTARY INFORMATION: We provide this notice in accordance with Privacy Act of 1974, as amended (5 U.S.C. 552a); OMB Final Guidance Interpreting the Provisions of Public Law 100-503 the Computer Matching and Privacy Protection Act of 1988, 54 FR 25818 (June 19, 1989); and OMB Circular No. A-108, available at: https://obamawhitehouse.archives.gov/sites/default/files/omb/assets/OMB/circulars/a108/omb_circular_a-108.pdf.

Participating Agencies: The U.S. Department of Education and the U.S. Department of Homeland Security, U.S. Citizenship and Immigration Services (USCIS).

Authority for Conducting the Matching Program: The information contained in the USCIS database is referred to as the Verification Information System (VIS), which is authorized by section 274A(b) of the Immigration and Nationality Act, 8 U.S.C. 1324a(b). ED seeks access to the VIS for the purpose of confirming the immigration status of applicants for assistance, as authorized by section 484(g) of the Higher Education Act of 1965, as amended (HEA), 20 U.S.C. 1091(g), and consistent with the title IV student eligibility requirements of section 484(a)(5) of the HEA, 20 U.S.C. 1091(a)(5). USCIS is authorized to participate in this immigration status verification by section 103 of the Immigration and Nationality Act, 8 U.S.C. 1103.

Purpose(S): The matching program entitled “Verification Division USCIS/ED” will permit ED to confirm the immigration status of alien applicants for, or recipients of, financial assistance under title IV of the HEA, as authorized by section 484(g) of the HEA (20 U.S.C. 1091(g)). The title IV, HEA programs that are covered by the agreement include: The Federal Pell Grant Program, the Teacher Education Assistance for College and Higher Education (TEACH) Grant Program, the Iraq and Afghanistan Service Grant Program, the Federal Perkins Loan Program, the Federal Work-Study Program, the Federal Supplemental Educational Opportunity Grant Program, and the William D. Ford Federal Direct Loan Program.

Categories of Individuals: The individuals included in this matching program are those who provide an Alien Registration Number when completing the Free Application for Federal Student Aid (FAFSA), to determine their eligibility for title IV, HEA program assistance.

Categories of Records: Data that are sent from ED to DHS include the individual's: Alien registration number, first and last name, date of birth, current Social Security number, and gender. This action will initiate a search for corresponding data elements in a USCIS Privacy Act system of records. When a match of records occurs, the USCIS system will add the following data to the record and return the file to ED: The primary or secondary verification number, the date of entry into the U.S., the country of birth and the USCIS status code of the alien applicant or recipient. ED translates the code to determine whether the applicant is an eligible non-citizen or that this determination could not be made.

In accordance with 5 U.S.C. 552a(p), ED will not suspend, terminate, reduce, or make a final denial of any title IV, HEA program assistance to the individual, or take other adverse action against the individual, as a result of information produced by the match, until ED has independently verified the information, or ED's Data Integrity Board determines, in accordance with guidance issued by the Director of the OMB, that: (1) The information is limited to identification and amount of benefits paid by ED under a Federal benefit program; and (2) there is a high degree of confidence that the information provided to ED is accurate. In addition, the individual must first receive a notice from ED containing a statement of its findings and informing the individual of the opportunity to contest those findings by submitting documentation demonstrating a satisfactory immigration status within 30 days of receipt of the notice. After 30 days from the date of the individual's receipt of such notice, ED may take adverse action against an individual as a result of information produced by the match.

System(S) of Records: ED system of Records: Federal Student Aid Application File (18-11-01), (76 FR 46774). DHS-USCIS system of records: Systematic Alien Verification for Entitlements (SAVE) System of Records, (81 FR 78619).

Accessible Format: Individuals with disabilities can obtain this document in an accessible format (such as, braille, large print, audiotape, or compact disc) on request to the contact person listed in the preceding paragraph.

Electronic Access to This Document: The official version of this document is the document published in the Federal Register. Free Internet access to the official edition of the Federal Register and the Code of Federal Regulations is available through the Federal Digital System at: www.gpo.gov/fdsys. At this site you can view this document, as well as all other documents of this Department published in the Federal Register, in text or PDF. To use PDF you must have Adobe Acrobat Reader, which is available free at the site.

You may also access documents of the Department published in the Federal Register by using the article search feature at: www.federalregister.gov. Specifically, through the advanced search feature at this site, you can limit your search to documents published by the Department.

Authority: 5 U.S.C. 552a.

Dated: March 16, 2017.
James W. Runcie,
Chief Operating Officer Federal Student Aid.

[FR Doc. 2017-05551 Filed 3-17-17; 8:45 am]

BILLING CODE 4000-01-P